DEPARTMENT OF THE INTERIOR

National Park Service

[NPS-WASO-NAGPRA-NPS0037124; PPWOCRADN0-PCU00RP14.R50000]

Notice of Inventory Completion: Antelope Valley College, Lancaster, CA

AGENCY: National Park Service, Interior.

ACTION: Notice.

SUMMARY: In accordance with the Native American Graves Protection and Repatriation Act (NAGPRA), Antelope Valley College (AVC) has completed an inventory of human remains and associated funerary objects and has determined that there is a cultural affiliation between the human remains and associated funerary objects and Indian Tribes or Native Hawaiian organizations in this notice. The human remains and associated funerary objects were removed from Yuba, CA.

DATES: Repatriation of the human remains and associated funerary objects in this notice may occur on or after January 22, 2024.

ADDRESSES: Dr. Darcy L. Wiewall, Antelope Valley College (AVC) 3041 W Ave. K, Lancaster, CA 93536, telephone (661) 722-6300 Ext. 6902, email darcy.wiewall@avc.edu.

SUPPLEMENTARY INFORMATION: This notice is published as part of the National Park Service's administrative responsibilities under NAGPRA. The determinations in this notice are the sole responsibility of AVC. The National Park Service is not responsible for the determinations in this notice. Additional information on the determinations in this notice, including the results of consultation, can be found in the inventory or related records held by AVC.

Description

Human remains representing, at minimum, 13 individuals were removed from Yuba, CA. These human remains and associated funerary objects came into AVC's possession in 2019. The human remains were excavated in 1966 by Ernest D. Wetstein (Yuba College Science Division) and directed by Roger Robinson (Sacramento State) with volunteer crews from Yuba College and local high schools at CA-YUB-164 (aka Yuba 58-1). Roger Robinson brought the collection to Antelope Valley College in 1968 and subsequently transferred it to his personal residence in 2007. In 2019, Antelope Valley College took possession of the collection. In July 2021, California State University, Sacramento Archaeological Curation Facility, transferred four Lindhurst Site (CA-YUB-164) items to be reunited with the rest of the collection in AVC's possession. The five lots of associated funerary objects consist of faunal, lithics, shell, ground stone, clay objects, sediment samples, and rocks.

Cultural affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological information, archeological information, geographical information, folkloric, historical, kinship, linguistic, oral traditional, and expert opinion, including Tribal Traditional Knowledge.

Determinations

Pursuant to NAGPRA and its implementing regulations, and after consultation with the appropriate Indian Tribes and Native Hawaiian organizations, AVC has determined that:

• The human remains described in this notice represent the physical remains of 13 individuals of Native American ancestry.

• The five lots of objects described in this notice are reasonably believed to have been placed with or near individual human remains at the time of death or later as part of the death rite or ceremony.

• There is a relationship of shared group identity that can be reasonably traced between the human remains and associated funerary objects described in this notice and the United Auburn Indian Community of the Auburn Rancheria of California.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after January 22, 2024. If competing requests for repatriation are received, AVC must determine the most appropriate requestor prior to repatriation. Requests for joint repatriation of the human remains and associated funerary objects are considered a single request and not competing requests. The AVC is responsible for sending a copy of this notice to the Indian Tribes and Native Hawaiian organizations identified in this notice.

Authority: Native American Graves Protection and Repatriation Act, 25 U.S.C. 3003, and the implementing regulations, 43 CFR 10.9, 10.10, and 10.14.

Dated: December 13, 2023.
Melanie O'Brien,
Manager, National NAGPRA Program.

[FR Doc. 2023-28179 Filed 12-21-23; 8:45 am]

BILLING CODE 4312-52-P